NATIONAL AERONAUTICS AND SPACE ADMINISTRATION

Notice of Information Collection

AGENCY: National Aeronautics and Space Administration (NASA).

Notice: (10-095).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Lori Parker, National Aeronautics and Space Administration, Washington, DC 20546-0001.

FOR FURTHER INFORMATION CONTACT: Requests for additional information or copies of the information collection instrument(s) and instructions should be directed to Lori Parker, NASA Clearance Officer, NASA Headquarters, 300 E Street, SW., JF0000, Washington, DC 20546, (202) 358-1351, Lori.Parker@nasa.gov.

SUPPLEMENTARY INFORMATION:

I. Abstract

NASA's portfolio of higher education projects aims to educate students, support the research and professional development of faculty and administrators, and enhance research and education capacity at institutions of higher education with the ultimate goal of strengthening the Nation's aerospace and aerospace-related science, technology, engineering, and mathematics (STEM) workforce. NASA intends to conduct a multi-staged evaluation of their cumulative investments in these higher education projects. Phase one of this evaluation will collect data on the degree completion and career placement of individuals who previously participated in a NASA project as an undergraduate or graduate student. Data from this collection will be used by NASA to respond to OMB and congressional inquiries, document the education and employment outcomes of NASA's higher education investments, and inform decisions about future project modifications and funding priorities.

II. Method of Collection

Data will be collected by means of a Web-based survey of former students who participated in or applied to NASA's higher education projects and telephone interviews of a sample of these students.

III. Data

Title: NASA Contractor Financial Management Reports.

OMB Number: 2700-XXXX.

Type of Review: New Collection.

Affected Public: Business Individuals or households.

Estimated Number of Respondents: 15,571 (15,251 survey; 320 survey/interview).

Estimated Number of Responses per Respondent: 1 or 2 (survey only; survey and interview).

Estimated Time per Response: 20 minutes for survey; 50 minutes for survey and interview.

Estimated Total Annual Burden Hours: 5298.43 hours.

Estimated Total Annual Cost: $0.00.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Lori Parker,
NASA Clearance Officer.

[FR Doc. 2010-21321 Filed 8-26-10; 8:45 am]

BILLING CODE P